DEPARTMENT OF THE INTERIOR

Bureau of Land Management

[MTM 067221]

Notice of Proposed Withdrawal Extension and Opportunity for Public Meeting; Montana

AGENCY: Bureau of Land Management, Interior.

ACTION: Notice.

SUMMARY: The United States Department of Agriculture (USDA), Forest Service, has filed an application with the Bureau of Land Management (BLM) that proposes to extend the duration of Public Land Order (PLO) No. 6881 for an additional 20-year term. PLO No. 6881 withdrew approximately 95 acres of National Forest System lands from location and entry under the United States mining laws to protect recreational values and the investment of Federal funds at the Howard Lake, Ross Creek, and Yaak Falls Recreation Areas. The withdrawal created by PLO No. 6881 will expire on September 18, 2011, unless extended. This notice also gives the public an opportunity to comment on the proposed action and to request a public meeting.

DATES: Comments and requests for a public meeting must be received by May 18, 2011.

ADDRESSES: Comments and meeting requests should be sent to the Regional Forester, U.S. Forest Service, Region 1, P.O. Box 7669, Missoula, Montana 59807, or the Montana State Director, Bureau of Land Management, 5001 Southgate Drive, Billings, Montana 59101-4669.

FOR FURTHER INFORMATION CONTACT: Scott Bixler, U.S. Forest Service, Region 1, P.O. Box 7669, Missoula, Montana 59807, 406-329-3655, or Sandra Ward, Bureau of Land Management, 5001 Southgate Drive, Billings, Montana 59101-4669, 406-896-5052.

SUPPLEMENTARY INFORMATION: The USDA Forest Service filed an application requesting that the Department of the Interior's Assistant Secretary for Land and Minerals Management extend PLO No. 6881 (56 FR 47414 (1991)), which withdrew approximately 95 acres of National Forest System lands located in Lincoln County, Montana, from location and entry under the United States mining laws (30 U.S.C. ch. 2) for an additional 20-year term. PLO No. 6881 is incorporated herein by reference.

The purpose of the proposed withdrawal extension is to continue to protect recreational values and the investment of Federal funds at the Howard Lake, Ross Creek and Yaak Falls Recreation Areas.

The use of a right-of-way, interagency agreement, cooperative agreement, or surface management under 43 CFR part 3809 regulations would not provide adequate protection.

There are no suitable alternative sites available. There are no other Federal lands in the area containing these unique recreational opportunities and improvements.

No additional water rights will be needed to fulfill the purpose of the requested withdrawal extension.

On or before May 18, 2011, all persons who wish to submit comments, suggestions, or objections in connection with the proposed withdrawal extension may present their views in writing to the Regional Forester, U.S. Forest Service, Region 1, P.O. Box 7669, Missoula, Montana 59807.

Comments, including names and street addresses of respondents, will be available for public review at the U.S. Forest Service, Region 1, 200 East Broadway, Missoula, Montana, and the Bureau of Land Management, Montana State Office, 5001 Southgate Drive, Billings, Montana, during regular business hours.

Individual respondents may request confidentiality. Before including your address, phone number, e-mail address, or other personal identifying information in your comments, be advised that your entire comment—including your personal identifying information—may be made publicly available at any time. While you can ask in your comment to withhold from public review your personal identifying information, we cannot guarantee that we will be able to do so.

Notice is hereby given that an opportunity for a public meeting is afforded in connection with the proposed withdrawal extension. All interested persons who desire a public meeting for the purpose of being heard on the proposed withdrawal must submit a written request to the Regional Forester, U.S. Forest Service, Region 1, P.O. Box 7669, Missoula, Montana 59807 by May 18, 2011. Upon determination by the authorized officer that a public meeting will be held, a notice of the time and place will be published in the Federal Register and at least one local newspaper not less than 30 days before the scheduled date of the meeting.

This application will be processed in accordance with the applicable regulations set forth in 43 CFR 2310.4.

Authority: 43 CFR 2310.3-1.

Cynthia Staszak,
Chief, Branch of Land Resources.

[FR Doc. 2011-3617 Filed 2-16-11; 8:45 am]

BILLING CODE 3410-11-P